ENVIRONMENTAL PROTECTION AGENCY

[EPA-HQ-ORD-2020-0701; FRL-10987-01-ORD]

Availability of the Integrated Science Assessment for Lead (Pb) (External Review Draft); Extension of Comment Period

AGENCY: Environmental Protection Agency (EPA).

ACTION: Notice; public comment period; extension.

SUMMARY: The Environmental Protection Agency (EPA) is extending the public comment period by two weeks for the document titled, “Integrated Science Assessment for Lead (Pb) (External Review Draft)” The original Federal Register document announcing the public comment period was published on March 31, 2023.

DATES: The public comment period for the notice published on March 31, 2023 (88 FR 19302), is being extended by two weeks. The EPA must receive comments on or before June 13, 2023.

ADDRESSES: The “Integrated Science Assessment for Lead (Pb) (External Review Draft)” is available via the internet on EPA's Integrated Science Assessment Lead page at https://www.epa.gov/isa/integrated-science-assessment-isa-lead and in the public docket at http://www.regulations.gov, Docket ID No. EPA-HQ-ORD-2020-0701.

FOR FURTHER INFORMATION CONTACT: For information on the public comment period, contact the ORD Docket at the EPA Headquarters Docket Center; phone: 202-566-1752; facsimile: 202-566-9744; or email: ord.docket@epa.gov.

For technical information, contact Evan Coffman; phone: (919) 541-0567; facsimile: 919-541-5078; or email: Coffman.Evan@epa.gov or Meredith Lassiter; phone (919) 541-3200; facsimile: 919-541-5078; or email: Lassiter.Meredith@epa.gov.

SUPPLEMENTARY INFORMATION: How to Submit Technical Comments to the Docket at https://www.regulations.gov Submit your comments, identified by Docket ID No. EPA-HQ-ORD-2020-0701 for Availability of the Integrated Science Assessment for Lead (Pb) (External Review Draft), by one of the following methods:

• www.regulations.gov: Follow the on-line instructions for submitting comments.

• Email: ord.docket@epa.gov.

• Fax: 202-566-9744. Due to COVID-19, there may be a delay in processing comments submitted by fax.

• Mail: U.S. Environmental Protection Agency, EPA Docket Center, Office of Research and Development Docket, Mail Code 28221T, 1200 Pennsylvania Avenue NW, Washington, DC 20460. The phone number is 202-566-1752.

• Hand Delivery or Courier: EPA Docket Center, WJC West Building, Room 3334, 1301 Constitution Avenue NW, Washington, DC 20004.

The Docket Center's hours of operation are 8:30 a.m.-4:30 p.m., Monday through Friday (except Federal Holidays). If you provide materials by mail or hand delivery, please submit three copies of these materials. For attachments, provide an index, number pages consecutively with the materials, and submit an unbound original and three copies.

Instructions: Direct your comments to Docket ID No. EPA-HQ-ORD-2020-0701. Please ensure that your comments are submitted within the specified comment period. Comments received after the closing date will be marked “late,” and will only be considered if time permits. It is EPA's policy to include all materials it receives in the public docket without change and to make the materials available online at www.regulations.gov, including any personal information provided, unless materials include information claimed to be Confidential Business Information (CBI) or other information whose disclosure is restricted by statute. Do not submit information that you consider to be CBI or otherwise protected through www.regulations.gov or email. The www.regulations.gov website is an “anonymous access” system, which means EPA will not know your identity or contact information unless you provide it in the body of your comment. If you send an email directly to EPA without going through www.regulations.gov, your email address will be automatically captured and included as part of the materials that are placed in the public docket and made available on the internet. If you submit electronic materials, EPA recommends that you include your name and other contact information in the body of your materials and with any disk or CD-ROM you submit. If EPA cannot read your materials due to technical difficulties and cannot contact you for clarification, EPA may not be able to consider the materials you submit. Electronic files should avoid the use of special characters, any form of encryption, and be free of any defects or viruses. For additional information about EPA's public docket visit EPA's Docket Center homepage at https://www.epa.gov/dockets.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Wayne Cascio,
Director, Center for Public Health and Environmental Assessment, Office of Research and Development.

[FR Doc. 2023-10737 Filed 5-18-23; 8:45 am]

BILLING CODE 6560-50-P